SMALL BUSINESS ADMINISTRATION

[License No. 04/04-0336]

Plexus Fund IV-B, L.P.; Notice Seeking Exemption Under the Small Business Investment Act, Conflicts of Interest

Notice is hereby given that Plexus Fund IV-B, L.P., 4242 Six Forks Road, Suite 950, Raleigh, NC 27609, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Plexus Fund IV-B, L.P. is seeking a prior written exemption from SBA to make a debt financing to Bonita Marie International, 1960 Rutgers University Blvd., Lakewood, NJ 08701.

The financing is brought within the purview of § 107.730(a)(4) of the Regulations because Plexus IV-B, L.P., Plexus III, L.P., and Plexus QP III, L.P. are Associates by Common Control, therefore, since the proposed transaction is providing Financing which will discharge Plexus III, L.P.'s and Plexus QP III, L.P.'s obligation, prior SBA written exemption is required.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2019-01511 Filed 2-6-19; 8:45 am]

BILLING CODE P